ENVIRONMENTAL PROTECTION AGENCY

40 CFR Parts 52 and 70

[EPA-R07-OAR-2016-0453; FRL-9951-85-Region 7]

State of Iowa; Approval and Promulgation of the Title V Operating Permits Program, the State Implementation Plan, and 112(l) Plan

AGENCY: Environmental Protection Agency (EPA).

ACTION: Proposed rule.

SUMMARY: The Environmental Protection Agency (EPA) is proposing to approve revisions to the Iowa Title V Operating Permits Program, the State Implementation Plan (SIP), and the 112(l) plan. The submission revises the Title V Operating Permits Program to include a new chapter to address fees for services by the air quality program. Administrative revisions made with this rulemaking to the SIP and 112(l) plan are associated with the new chapter.

DATES: Written comments must be received by October 11, 2016.

ADDRESSES: Submit your comments, identified by Docket ID No. EPA-R07-OAR-2016-0453, to http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Heather Hamilton, Environmental Protection Agency, Air Planning and Development Branch, 11201 Renner Boulevard, Lenexa, Kansas 66219 at 913-551-7039, or by email at hamilton.heather@epa.gov.

SUPPLEMENTARY INFORMATION: This document proposes to take action to approve revisions to the Iowa Title V Operating Permits Program, the State Implementation Plan (SIP), and the 112(l) plan. We have published a direct final rule approving the State's SIP revision(s) in the Rules and Regulations section of this Federal Register, because we view this as a noncontroversial action and anticipate no relevant adverse comment. We have explained our reasons for this action in the preamble to the direct final rule. If we receive no adverse comment, we will not take further action on this proposed rule. If we receive adverse comment, we will withdraw the direct final rule and it will not take effect. We would address all public comments in any subsequent final rule based on this proposed rule. We do not intend to institute a second comment period on this action. Any parties interested in commenting must do so at this time. For further information, please see the information provided in the ADDRESSES section of this document.

List of Subjects

40 CFR Part 52

Environmental protection, Incorporation by reference, Intergovernmental relations, Reporting and recordkeeping requirements.

40 CFR Part 70

Administrative practice and procedure, Air pollution control, Intergovernmental relations, Operating permits, Reporting and recordkeeping requirements.

Dated: August 24, 2016.
Mark Hague,
Regional Administrator, Region 7.

[FR Doc. 2016-21468 Filed 9-8-16; 8:45 am]

BILLING CODE 6560-50-P